DEPARTMENT OF COMMERCE

National Oceanic and Atmospheric Administration

[RTID: 0648-XB177]

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's Bluefish Monitoring Committee will hold a public webinar meeting.

DATES: The meeting will be held Monday, July 26, 2021 from 1 p.m. to 4 p.m. For agenda details, see SUPPLEMENTARY INFORMATION.

ADDRESSES: The meeting will be held via webinar. Connection information will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Bluefish Monitoring Committee will meet via webinar to discuss management measures. The objectives of this meeting are for the Monitoring Committee to: (1) Review recent stock assessment information, fishery performance, and recommendations from the Advisory Panel, the Scientific and Statistical Committee, and staff; (2) Recommend 2022-2023 commercial and recreational Annual Catch Limits, Annual Catch Targets, commercial quotas, and recreational harvest limits; (3) Review commercial management measures and recommend changes if needed; and (4) Review and discuss 2020 recreational data collection gaps and catch estimation methodology from the Marine Recreational Information Program. Meeting materials will be posted to www.mafmc.org.

The meeting is physically accessible to people with disabilities. Requests for sign language interpretation or other auxiliary aids should be directed to Kathy Collins at the Mid-Atlantic Council Office (302) 526-5253 at least five days prior to the meeting date.

Dated: June 15, 2021.
Tracey L. Thompson,
Acting Deputy Director, Office of Sustainable Fisheries, National Marine Fisheries Service.

[FR Doc. 2021-13320 Filed 6-23-21; 8:45 am]

BILLING CODE 3510-22-P